DEPARTMENT OF COMMERCE

Submission for OMB Review; Comment Request

The Department of Commerce will submit to the Office of Management and Budget (OMB) for clearance the following proposal for collection of information under the provisions of the Paperwork Reduction Act.

Agency: U.S. Census Bureau.

Title: 2017-2019 Business Research & Development Survey (BRDS).

OMB Control Number: 0607-0912.

Form Number(s): BRD-1.

Type of Request: Revision of a currently approved collection.

Number of Respondents: 45,000.

Average Hours per Response: 3 hours and 18 minutes.

Burden Hours: 148,600.

Needs and Uses: The Census Bureau is requesting clearance to conduct the Business Research and Development Survey (BRDS) for the 2017-2019 survey years with the revisions outlined in this document. Companies are the major performers of research and development (R&D) in the United States, accounting for over 70 percent of total U.S. R&D outlays each year. A consistent business R&D information base is essential to government officials formulating public policy, industry personnel involved in corporate planning, and members of the academic community conducting research. To develop policies designed to promote and enhance science and technology, past trends and the present status of R&D must be known and analyzed. Without comprehensive business R&D statistics, it would be impossible to evaluate the health of science and technology in the United States or to make comparisons between the technological progress of our country and that of other nations.

The National Science Foundation Act of 1950 as amended authorizes and directs the National Science Foundation (NSF) “. . . to provide a central clearinghouse for the collection, interpretation, and analysis of data on scientific and engineering resources and to provide a source of information for policy formulation by other agencies of the Federal government.” One of the methods used by NSF to fulfill this mandate is the BRDS—the primary federal source of information on R&D in the business sector. NSF together with the Census Bureau, the collecting and compiling agent, analyze the data and publish the resulting statistics.

NSF has published annual R&D statistics collected from the Survey of Industrial Research and Development (1953-2007) and the Business R&D and Innovation Survey (BRDIS) (2008-2016) for 63 years. The results of the surveys are used to assess trends in R&D expenditures by industry sector, investigate productivity determinants, formulate science and tax policy, and compare individual company performance with industry averages. This survey is the Nation's primary source for international comparative statistics on business R&D spending.

The BRDS will continue to collect the following types of information:

• R&D expense based on accounting standards.

• Worldwide R&D of domestic companies.

• Business segment detail.

• R&D related capital expenditures.

• Detailed data about the R&D workforce.

• R&D strategy and data on the potential impact of R&D on the market.

• R&D directed to application areas of particular national interest.

• Data measuring intellectual property protection activities.

The following changes will be made to the 2017-2019 BRDS compared to the 2016 BRDIS:

• Removed four innovation questions from Section 1.

• Moved Capital Expenditures questions from Section 2 to their own section, Section 4.

• Added a Yes/No question to determine if any capital expenditures were reimbursed by others.

• Reinstated question on Intellectual Property Protection in Section 7 which had been collected in previous years.

From 2008-2015, the BRDIS collected R&D and innovation data from companies with five or more employees. In 2016, the BRDIS collected R&D and innovation data from companies with at least one paid employee. Beginning with the 2017 survey (collected in 2018), the BRDS will no longer collect innovation data, and only companies with at least 10 paid employees will be in scope. The Census Bureau will continue to collect R&D data from companies with fewer than 10 employees, and innovation data from all companies, however, beginning in 2017, these data will be collected on a new survey, the Annual Business Survey. Accordingly, we are also changing the name of the collection to the Business Research and Development Survey—dropping Innovation (BRDS).

Information from the BRDS will continue to support the America COMPETES Reauthorization Act of 2010 as well as other R&D-related initiatives introduced during the clearance period. Other initiatives that have used BRDS statistics include: The Science of Science and Innovation Policy (NSF); and Rising Above the Gathering Storm (National Research Council).

Policy officials from many Federal agencies rely on these statistics for essential information. Businesses and trade organizations rely on BRDS data to benchmark their industry's performance against others. For example, total U.S. R&D expenditures statistics have been used by the Bureau of Economic Analysis (BEA) to update the National Income and Product Accounts (NIPAs) and, in fact, the BEA recently has recognized and incorporated R&D as fixed investment in the NIPA. Accurate R&D data are needed to continue the development and effect subsequent updates to this detailed satellite account. Also, NSF, BEA and the Census Bureau periodically update a data linking project that utilizes BRDS data to augment global R&D investment information that is obtained from BEA's Foreign Direct Investment (FDI) and U.S. Direct Investment Abroad (USDIA) surveys. Further, the Census Bureau links data collected by BRDS with other statistical files. At the Census Bureau, historical company-level R&D data are linked to a file that contains information on the outputs and inputs of companies' manufacturing plants. Researchers are able to analyze the relationships between R&D funding and other economic variables by using micro-level data.

Individuals and organizations access the survey statistics via the Internet in annual InfoBriefs published by NSF's National Center for Science and Engineering Statistics (NCSES) that announce the availability of statistics from each cycle of BRDS and detailed statistical table reports that contain all of the statistics NSF produces from BRDS. Information about the kinds of projects that rely on statistics from BRDS is available from internal records of NSF's NCSES. In addition, survey statistics are regularly cited in trade publications and many researchers use the survey statistics from these secondary sources without directly contacting NSF or the Census Bureau.

Affected Public: Business or other for-profit.

Frequency: Annually.

Respondent's Obligation: Mandatory.

Legal Authority: Title 13, United States Code, Sections 8(b), 131, and 182; Title 42, United States Code, Sections 1861-76 (National Science Foundation Act of 1950, as amended).

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2017-26385 Filed 12-6-17; 8:45 am]

BILLING CODE 3510-07-P